DEPARTMENT OF DEFENSE

GENERAL SERVICES ADMINISTRATION

NATIONAL AERONAUTICS AND SPACE ADMINISTRATION

48 CFR Part 1

[FAR Case 2016-005; Docket No. 2016-0005; Sequence No. 1]

RIN 9000-AN29

Federal Acquisition Regulation; Effective Communication Between Government and Industry; Extension of Time for Comments

AGENCY: Department of Defense (DoD), General Services Administration (GSA), and National Aeronautics and Space Administration (NASA).

ACTION: Proposed rule; extension of comment period.

SUMMARY: DoD, GSA, and NASA issued a proposed rule (FAR Case 2016-005) on November 29, 2016, amending the Federal Acquisition Regulation (FAR) to implement a section of the National Defense Authorization Act for Fiscal Year 2016. This rule clarifies that agency acquisition personnel are permitted and encouraged to engage in responsible and constructive exchanges with industry, so long as those exchanges are consistent with existing law and regulation and do not promote an unfair competitive advantage to particular firms. The deadline for submitting comments is being extended from January 30, 2017 to March 2, 2017 to provide additional time for interested parties to provide comments on the FAR case.

DATES: For the proposed rule published on November 29, 2016 (81 FR 85914), submit comments by March 2, 2017.

ADDRESSES: Submit comments in response to FAR Case 2016-005 by any of the following methods:

• Regulations.gov: http://www.regulations.gov. Submit comments via the Federal eRulemaking portal by searching for “FAR Case 2016-005”. Select the link “Comment Now” that corresponds with “FAR Case 2016-005.” Follow the instructions provided at the “Comment Now” screen. Please include your name, company name (if any), and “FAR Case 2016-005” on your attached document.

• Mail: General Services Administration, Regulatory Secretariat Division (MVCB), ATTN: Ms. Flowers, 1800 F Street NW., 2nd Floor, Washington, DC 20405.

Instructions: Please submit comments only and cite FAR Case 2016-005, in all correspondence related to this case. All comments received will be posted without change to http://www.regulations.gov, including any personal and/or business confidential information provided.

FOR FURTHER INFORMATION CONTACT: Mr. Michael O. Jackson, Procurement Analyst, at 202-208-4949, for clarification of content. For information pertaining to status or publication schedules, contact the Regulatory Secretariat Division at 202-501-4755. Please cite FAR Case 2016-005.

SUPPLEMENTARY INFORMATION:

I. Background

DoD, GSA, and NASA published a proposed rule in the Federal Register at 81 FR 85914, on November 29, 2016. The comment period is extended to provide additional time for interested parties to submit comments on the FAR case until March 2, 2017.

List of Subjects in 48 CFR Part 1

Government procurement.

Dated: January 17, 2017.
William F. Clark,
Director, Office of Governmentwide Acquisition Policy, Office of Acquisition Policy, Office of Governmentwide Policy.

[FR Doc. 2017-01405 Filed 1-19-17; 8:45 am]

BILLING CODE 6820-EP-P